DEPARTMENT OF TRANSPORTATION

National Highway Traffic Safety Administration

49 CFR Part 571

[Docket No. NHTSA-98-4511; Notice 1]

RIN 2127-AD50

Federal Motor Vehicle Safety Standards; Platform Lift Systems for Accessible Motor Vehicles Platform Lift Installations on Motor Vehicles

AGENCY: National Highway Traffic Safety Administration (NHTSA), Department of Transportation.

ACTION: Supplemental notice of proposed rulemaking (SNPRM); correction.

FOR FURTHER INFORMATION CONTACT: For non-legal issues, you may call Louis Molino, Office of Crashworthiness Standards, at 202-366-1833.

For legal issues, you may call Rebecca MacPherson, Office of the Chief Counsel, at 202-366-2992.

You may send mail to both of these officials at National Highway Traffic Safety Administration, 400 Seventh St., SW., Washington, DC 20590.

SUPPLEMENTARY INFORMATION: This document corrects the supplemental notice proposing to establish two new safety standards: an equipment standard specifying requirements for platform lifts; and a vehicle standard for all vehicles equipped with such lifts. A correction notice is necessary because the SNPRM, as published, misidentified three references to figures and failed to include one figure. Additionally, the SNPRM incorrectly referred to a section of the proposed regulatory text that does not exist.

Therefore, the SNPRM (65 FR 46228, July 27, 2000) is corrected as follows:

1. On page 46234 in the second column, in line 5, the reference to figure 3 should be to figure 2. There is no figure 3.

2. On page 46249 in the third column, S5.1.2.4 references a figure 3. The correct reference is to figure 2.

3. On page 46250 in the first column, S5.2.4 refers to S5.1.4. There is no S5.1.4 and the reference should be deleted. On the same page in the second column, S5.4.2.2 references figure 2. The correct reference is to figure 1.

4. On page 46257, figure 2 is missing. Figure 2 is provided in this correction notice.

Issued on: July 27, 2000.
Stephen R. Kratzke,
Associate Administrator for Performance Safety Standards.

BILLING CODE 4910-59-P

[FR Doc. 00-19483 Filed 8-3-00; 8:45 am]

BILLING CODE 4910-59-C